DEPARTMENT OF COMMERCE

National Oceanic and Atmospheric Administration

RIN 0648-XA42

Endangered Species; File No. 1604

AGENCY: National Marine Fisheries Service (NMFS), National Oceanic and Atmospheric Administration (NOAA), Commerce.

ACTION: Issuance of permit.

SUMMARY: Notice is hereby given that the U.S. Fish and Wildlife Service (Dr. Chester Figiel, Principal Investigator), 5308 Spring Street, Warm Springs, GA 31830, has been issued a permit to take captive shortnose sturgeon (Acipenser brevirostrum) for purposes of enhancement and scientific research.

ADDRESSES: The permit and related documents are available for review upon written request or by appointment in the following offices:

Permits, Conservation and Education Division, Office of Protected Resources, NMFS, 1315 East-West Highway, Room 13705, Silver Spring, MD 20910; phone (301)713-2289; fax (301)427-2521; and

Protected Resources Division, Southeast Region, NMFS, 263 13th Avenue South,St. Petersburg, FL 33701; phone (727) 824-5312; fax (727) 824-5309.

FOR FURTHER INFORMATION CONTACT: Malcolm Mohead, or Jennifer Skidmore (301)713-2289.

SUPPLEMENTARY INFORMATION: On April 13, 2007, notice was published in the Federal Register (72 FR 18636) that a request for an enhancement and scientific research permit to take captive shortnose sturgeon had been submitted by the above-named organization. The requested permit has been issued under the authority of the Endangered Species Act of 1973, as amended (ESA; 16 U.S.C. 1531 et seq.) and the regulations governing the taking, importing, and exporting of endangered and threatened species (50 CFR parts 222-226).

The primary objective is to utilize the available captive brood stock population to provide information needed for implementation of recovery efforts, as described in the “Final Recovery Plan for the Shortnose Sturgeon (Acipenser brevirostrum)” (NMFS, 1998). Captive shortnose sturgeon will be maintained, conditioned, spawned and the gametes and progeny used for scientific studies, such as cryo-preservation, genetics, culture techniques, behavioral studies, nutrition, and tagging techniques. An additional study characterizing the genetic strains of sturgeon in rivers of the Southeast Atlantic coast will be accomplished using tissues samples archived at the NOAA/NOS Laboratory in Charleston, South Carolina. This project will not require any further takes from the wild or any release of captive sturgeon into the wild. The permit is authorized for five years.

Issuance of this permit, as required by the ESA, was based on a finding that such permit (1) was applied for in good faith, (2) will not operate to the disadvantage of such endangered or threatened species, and (3) is consistent with the purposes and policies set forth in section 2 of the ESA.

Dated: May 18, 2007.
P. Michael Payne,
Chief, Permits, Conservation and Education Division, Office of Protected Resources, National Marine Fisheries Service.

[FR Doc. E7-9961 Filed 5-23-07; 8:45 am]

BILLING CODE 3510-22-S